DEPARTMENT OF THE INTERIOR

Fish and Wildlife Service

Final Comprehensive Conservation Plan for Kirwin National Wildlife Refuge, KS

AGENCY: Fish and Wildlife Service, Interior.

ACTION: Notice of availability.

SUMMARY: The U.S. Fish and Wildlife Service (Service) announces that the final Comprehensive Conservation Plan (CCP) and Environmental Assessment (EA) for Kirwin National Wildlife Refuge (Refuge) are available. This final CCP/EA describes how the Service intends to manage the Refuge for the next 15 years.

ADDRESSES: Please provide written comments to Toni Griffin, Planning Team Leader, Division of Refuge Planning, P.O. Box 25486, Denver Federal Center, Denver, Colorado 80225, or electronically to toni_griffin@fws.gov. A copy of the CCP may be obtained by writing to U.S. Fish and Wildlife Service, Division of Refuge Planning, 134 Union Boulevard, Suite 300, Lakewood, Colorado 80228; or by download from http://mountain-prairie.fws.gov/planning.

FOR FURTHER INFORMATION CONTACT: Toni Griffin, 303-236-4378 (phone); 303-236-4792 (fax); or toni_griffin@fws.gov (e-mail).

SUPPLEMENTARY INFORMATION: This Refuge, the first national wildlife refuge in Kansas, was established in 1954 as an overlay project on a U.S. Bureau of Reclamation (Reclamation) irrigation and flood control reservoir. Reclamation owns the land and controls reservoir water levels, while the Refuge staff manages all other activities on the land and water.

Basic authority for the existence of the Refuge stems from the Fish and Wildlife Coordination Act, which authorized the establishment of wildlife areas on federal water projects. The primary purpose of the reservoir is to provide for flood control and provide irrigation water for the Kirwin Irrigation District. The purpose of the Refuge “* * * shall be administered by him (Secretary of the Interior) directly or in accordance with such rules and regulations for the conservation, maintenance, and management of wildlife, resources thereof, and its habitat thereon * * * in behalf of the National Migratory Bird Management Program” (Fish and Wildlife Coordination Act). The Refuge is managed in accordance with a Memorandum of Agreement (MOA) between Reclamation and the Service that was updated and signed in 1985.

The draft CCP and EA was made available to the public for a 30-day review and comment period following the announcement in the Federal Register on March 24, 2006 (71 FR 14939-14940). The draft CCP/EA identified and evaluated two alternatives for managing the Refuge for the next 15 years.

Alternative A, the No Action Alternative, would continue current management. The Refuge would continue to be managed in accordance with the MOA between Reclamation and the Service; the Cooperative Agreement between the Kansas Department of Wildlife and Parks; and the Kirwin Comprehensive Management Plan completed in 1996. Existing and proposed Refuge uses would be evaluated to comply with current Refuge laws, regulations, and policies.

Alternative B, the Preferred Alternative (Wildlife, Habitat, and Public Use), strives to implement the National Wildlife Refuge System Improvement Act of 1997. Under this alternative, the Refuge will continue to be managed in accordance with the current MOA between Reclamation and the Service. Other actions include continued habitat management for waterfowl and game species; expanded habitat management for nongame species and species of conservation concern by increasing efforts to manage and plant native grasses and forbs; promotion of wildlife-dependent recreation, with hunting, fishing, wildlife observation, wildlife photography, environmental education, and interpretation receiving priority attention; discontinuance of non-wildlife dependent recreation uses (i.e., water and jet skiing, personal watercraft, camping, swimming, horseback riding, volleyball, basketball, tournament fishing, power and speed boating); enhanced management of invasive species; collection of in-depth baseline wildlife and habitat data on the Refuge, from which to monitor management actions; and development of partnerships with other state, federal, and conservation organizations to achieve common goals that enhance and support the Refuge program.

The Service is furnishing this notice to advise other agencies and the public of the availability of the final CCP, to provide information on the desired conditions for the Refuge, and to detail how the Service will implement management strategies. Based on the review and evaluation of the information contained in the EA, the Regional Director has determined that implementation of the final CCP does not constitute a major federal action that would significantly affect the quality of the human environment within the meaning of Section 102(2)(c) of the National Environmental Policy Act. Therefore, an Environmental Impact Statement will not be prepared. Future site-specific proposals discussed in the final CCP will be addressed in separate planning efforts with full public involvement.

Dated: December 8, 2006.
James J. Slack,
Deputy Regional Director, Region 6, Denver, Colorado.

Editorial Note: This document was received at the Office of the Federal Register on April 19, 2007.

[FR Doc. E7-7740 Filed 4-23-07; 8:45 am]

BILLING CODE 4310-55-P